DEPARTMENT OF TRANSPORTATION

National Highway Traffic Safety Administration

[Docket No. NHTSA-2025-0053]

Agency Information Collection Activities; Notice and Request for Comment; 49 CFR Part 585; Phase-In Reporting Requirements

AGENCY: National Highway Traffic Safety Administration (NHTSA), Department of Transportation (DOT).

ACTION: Notice and request for comments on a request for reinstatement with modification of a previously approved information collection.

SUMMARY: NHTSA invites public comments about our intention to request approval from the Office of Management and Budget (OMB) for a reinstatement with modification of a previously-approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on phase-in reporting requirements as part of a final rule in which NHTSA amended Federal Motor Vehicle Safety Standard (FMVSS) No. 208, “Occupant crash protection.”

DATES: Comments must be submitted on or before July 28, 2025.

ADDRESSES: You may submit comments identified by the Docket No. NHTSA-2025-0053 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Ms. Carla Rush at (202) 366-1810. Address: National Highway Traffic Safety Administration, U.S. Department of Transportation, 1200 New Jersey Avenue SE, Washington, DC 20590. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: 49 CFR part 585; Phase-In Reporting Requirements.

OMB Control Number: 2127-0535.

Form Number(s): N/A.

Type of Request: Reinstatement with modification of a previously approved information collection.¹

¹ This information collection request (ICR) is to request a reinstatement with modification of a previously approved information collection for mandatory phase-in reporting for vehicle manufacturers (OMB Control No. 2127-0535) and requesting that it be renamed as “49 CFR part 585; Phase-In Reporting Requirements.” This ICR will be used to consolidate all phase-in reporting requirements that are included in 49 CFR part 585 and was chosen because the OMB Control Number is currently listed in 49 CFR 509 as being associated with information collections contained in part 585.

Type of Review Requested: Regular.

Requested Expiration Date of Approval: 3 years from date of approval.

Summary of the Collection of Information: On August 22, 2024, NHTSA published a final rule amending FMVSS No. 208, “Occupant crash protection.” ² Among other requirements, FMVSS No. 208 mandates that motor vehicles be equipped with advanced air bag systems capable of deactivating or adjusting the force with which the air bags deploy depending on size of the occupant seated in positions with frontal air bags. Manufacturers must certify that their advanced air bag systems comply with the requirements when certain child restraint systems (CRSs) are installed in their vehicles with specific dummies listed in the standard. These specific CRSs are listed in Appendix A-1 of FMVSS No. 208, and the August 2024 final rule updated the list of CRSs listed in Appendix A-1 to ensure the CRSs being used for testing are representative of the current CRS market.

² 89 FR 67869.

As part of the update to FMVSS No. 208, there is a phase-in of the requirements for testing with the new CRSs listed in Appendix A-1. As with all phase-ins, the agency is adopting a reporting and recordkeeping requirement to facilitate the agency's enforcement of the standard by aiding NHTSA in determining whether a manufacturer has complied with the phase-in requirements during the phase-in period. The reporting and recordkeeping requirements require that manufacturers submit an annual production report to NHTSA that includes the number of vehicles manufactured in the current production year and the production of complying vehicles and retain records of compliance with the phase-in requirements for five years. NHTSA estimates this collection will impact 22 manufacturers each year and will have a total annual burden of 22 hours and $0 in total annual cost.

Description of the Need for the Information and Proposed Use of the Information: The purpose of the reporting requirements is to aid NHTSA in determining whether a manufacturer has complied with the phase-in requirements during the phase-in period. Without the reporting requirements, NHTSA would have no way of knowing whether a manufacturer has complied with the phase-in requirements during the phase-in period.

Affected Public: The only required respondents for the reporting requirements are applicable light vehicle manufacturers.

Estimated Number of Respondents: The agency expects 22 vehicle manufacturers to be required to respond to the information collection request.

Frequency: The final rule requires the following implementation schedule: Forty percent of all of a manufacturer's light vehicles must comply with the revised appendix by September 1, 2025, and all light vehicles must be fully compliant no later than September 1, 2026. The phase-in plan requires manufacturers to report achievement of the annual production quota in the phase-in period. These requirements are found in 49 CFR part 585, “Phase-In Reporting Requirements.” The reporting and recordkeeping requirements require that manufacturers submit an annual production report to NHTSA that includes the number of vehicles manufactured in the current production year and the production of complying vehicles and that they retain records of compliance with the phase-in requirements for five years. The report is due within 60 days after the end of the production year ending August 31, 2026. After the report is received, requirements will cease and no further report will be required during that year.

Estimated Total Annual Burden: The annual burden involves the tasks of collection of the information required by the annual report as well as placing the information in a form suitable for record keeping and data retrieval. Since almost all of the information required is already recorded by the manufacturers as part of their production control and tracking systems, a nominal assessment of half a burden hour per respondent is estimated for data retrieval and report preparation and half a burden hour per respondent for the record keeping of the data.

NHTSA estimates the labor costs associated with these labor hours using hourly labor rates published by the Bureau of Labor Statistics (BLS). BLS estimates that hourly wages represent approximately 70.5 percent of total compensation for private industry workers.³ For the labor costs associated with this ICR, NHTSA uses the mean hourly wage of $40.64 per hour for “Technical Writers” (occupational code 27-3042) for the Motor Vehicle Manufacturing Industry ⁴ and applies the 70.5 percent factor to find the total compensation rate of $57.65 per hour ($40.64 per hour divided by 0.705). The total annual labor cost associated with the burden hours is estimated to be $1,268.20 (time burden of 22 hours × $57.65 cost per hour).

³ See Table 1. Employer Costs for Employee Compensation by ownership (Dec. 2024), available at https://www.bls.gov/news.release/pdf/ecec.pdf (accessed April 1, 2025).

⁴ See May 2023 National Industry-Specific Occupational Employment and Wage Estimates, NAICS 336100—Motor Vehicle Manufacturing, available at https://www.bls.gov/oes/2023/may/naics4_336100.htm#27-0000 (accessed April 1, 2025).

Estimated Total Annual Burden Cost: $0. There are no additional costs to respondents other than the labor cost associated with the burden hours described above.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

David Hines,
Acting Associate Administrator for Rulemaking.

[FR Doc. 2025-09511 Filed 5-27-25; 8:45 am]

BILLING CODE 4910-59-P